DEPARTMENT OF TRANSPORTATION

Federal Aviation Administration

14 CFR Part 39

[Docket No. FAA-2013-0327; Directorate Identifier 2011-NM-161-AD; Amendment 39-17794; AD 2014-05-21]

RIN 2120-AA64

Airworthiness Directives; The Boeing Company Airplanes

AGENCY: Federal Aviation Administration (FAA), DOT.

ACTION: Final rule.

SUMMARY: We are superseding airworthiness directive (AD) 2008-11-04 for all The Boeing Company Model 737-100, -200, -200C, -300, -400, and -500 series airplanes. AD 2008-11-04 required repetitive inspections for cracking in and around the upper and lower hinge cutouts of the forward entry and forward galley service doorways, and corrective actions if necessary. This new AD reduces the inspection threshold for cracking in and around the galley service doorway hinge cutouts, adds inspections of certain repaired structure at the forward entry and galley service doorway upper and lower hinge cutouts, expands the inspection area at the forward entry and galley service doorway upper and lower hinge cutouts, and removes certain airplanes from the applicability. This AD was prompted by multiple reports of cracks in the skin and/or bear strap at the forward galley service doorway hinge cutouts, and multiple reports of cracking under the repairs installed at the hinge cutouts. We are issuing this AD to detect and correct such cracking, which could result in rapid decompression of the airplane.

DATES: This AD is effective April 22, 2014.

The Director of the Federal Register approved the incorporation by reference of a certain publication listed in this AD as of April 22, 2014.

The Director of the Federal Register approved the incorporation by reference of a certain other publication listed in this AD as of June 25, 2008 (73 FR 29421, May 21, 2008).

ADDRESSES: For service information identified in this AD, contact Boeing Commercial Airplanes, Attention: Data & Services Management, P. O. Box 3707, MC 2H-65, Seattle, WA 98124-2207; phone: 206-544-5000, extension 1; fax: 206-766-5680; Internet: https://www.myboeingfleet.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2013-0327; or in person at the Docket Management Facility between 9 a.m. and 5 p.m., Monday through Friday, except Federal holidays. The AD docket contains this AD, the regulatory evaluation, any comments received, and other information. The address for the Docket Office (phone: 800-647-5527) is Docket Management Facility, U.S. Department of Transportation, Docket Operations, M-30, West Building Ground Floor, Room W12-140, 1200 New Jersey Avenue SE., Washington, DC 20590.

FOR FURTHER INFORMATION CONTACT: Alan Pohl, Aerospace Engineer, Airframe Branch, ANM-120S, Seattle Aircraft Certification Office (ACO), FAA, 1601 Lind Avenue SW., Renton, WA 98057-3356; phone: 425-917-6450; fax: 425-917-6590; email: Alan.Pohl@faa.gov.

SUPPLEMENTARY INFORMATION:

Discussion

We issued a notice of proposed rulemaking (NPRM) to amend 14 CFR part 39 to supersede AD 2008-11-04, Amendment 39-15526 (73 FR 29421, May 21, 2008). AD 2008-11-04 applied to all The Boeing Company Model 737-100, -200, -200C, -300, -400, and -500 series airplanes. The NPRM published in the Federal Register on April 16, 2013 (78 FR 22439). The NPRM was prompted by multiple reports of cracks in the skin and/or bear strap at the forward galley service doorway hinge cutouts, and multiple reports of cracking under the repairs installed at the hinge cutouts. The NPRM proposed to reduce the inspection threshold for cracking in and around the galley service doorway hinge cutouts, add inspections of certain repaired structure at the forward entry and galley service doorway upper and lower hinge cutouts, expand the inspection area at the forward entry and galley service doorway upper and lower hinge cutouts, and remove certain airplanes from the applicability. We are issuing this AD to detect and correct such cracking, which could result in rapid decompression of the airplane.

Comments

We gave the public the opportunity to participate in developing this AD. The following presents the comments received on the proposal (78 FR 22439, April 16, 2013) and the FAA's response to each comment.

Request to Add Service Information

Southwest Airlines (SWA) and Boeing requested we add a provision to the NPRM (78 FR 22439, April 16, 2013) to specify that performing a repair in accordance with “Boeing 737-300/-400/-500 Structural Repair Manual (SRM) 53-10-01, Repair 14 and Repair 15” is considered terminating action for the requirements of paragraph (j) of the NPRM for the repaired location. Boeing stated that the repairs are in the referenced SRM, and those repairs incorporate the procedures specified in Note 10 of paragraph 3.A., “General Information,” of the Accomplishment Instructions of Boeing Service Bulletin 737-53A1200, Revision 2, dated September 12, 2012.

We agree that certain SRM repairs meet the conditions specified in Note 10 of paragraph 3.A., “General Information,” of the Accomplishment Instructions of Boeing Service Bulletin 737-53A1200, Revision 2, dated September 12, 2012. However, to include SRM repairs in this final rule would unnecessarily delay issuance of the final rule. Boeing may apply for a global alternative method of compliance (AMOC) on behalf of the affected operators in accordance with the procedures specified in paragraph (p) of this final rule. We have not changed this final rule in this regard.

Request to Allow Terminating Action for Inspections

All Nippon Airways (ANA) stated that no further action should be necessary if the repair meets the conditions specified in Note 10 of paragraph 3.A., “General Information,” of the Accomplishment Instructions of Boeing Service Bulletin 737-53A1200, Revision 2, dated September 12, 2012, and that this should be addressed in paragraph (k)(3) of the NPRM (78 FR 22439, April 16, 2013), which terminates paragraph (g) of the NPRM.

We agree with the commenter's request. The conditions provided in Note 10 of paragraph 3.A., “General Information,” of the Accomplishment Instructions of Boeing Service Bulletin 737-53A1200, Revision 2, dated September 12, 2012, ensure that the non-SRM repairs were developed to preclude further cracking.

We note that there is no paragraph (k)(3) in the NPRM (78 FR 22439, April 16, 2013), and infer that ANA meant to request that a new paragraph (k)(3) be added to this final rule. Instead, we have added new paragraph (n) to this final rule and redesignated subsequent paragraphs accordingly. New paragraph (n) of this final rule states that the inspections required by paragraph (j) of this final rule may be terminated at areas with repairs installed prior to the effective date of this final rule if those repairs meet the conditions specified in Note 10 of paragraph 3.A., “General Information,” of the Accomplishment Instructions of Boeing Service Bulletin 737-53A1200, Revision 2, dated September 12, 2012.

Request to Include AMOC Approval

Boeing requested that we modify paragraph (o)(4) of the NPRM (78 FR 22439, April 16, 2013) (paragraph (p)(4) in this final rule) to include the additional conditions shown in Note 10 of paragraph 3.A., “General Information,” of the Accomplishment Instructions of Boeing Service Bulletin 737-53A1200, Revision 2, dated September 12, 2012. Boeing stated that the paragraph should state that AMOCs approved previously for paragraphs (f) and (i) of AD 2008-11-04, Amendment 39-15526 (73 FR 29421, May 21, 2008), are approved as AMOCs for the corresponding provisions of paragraphs (g) and (i) of the NPRM, provided that the repairs meet the criteria of Note 10 of paragraph 3.A., “General Information,” of the Accomplishment Instructions of Boeing Service Bulletin 737-53A1200, Revision 2, dated September 12, 2012. Boeing stated that the conditions provided in Note 10 of paragraph 3.A., “General Information,” of the Accomplishment Instructions of Boeing Service Bulletin 737-53A1200, Revision 2, dated September 12, 2012, ensure that the repairs were developed to preclude post-modification cracking.

We do not agree with the commenter's request. The commenter's concerns are adequately addressed in paragraph (k)(2) of this final rule, which requires additional actions when repairs do not meet the conditions specified in Note 10 of paragraph 3.A., “General Information,” of the Accomplishment Instructions of Boeing Service Bulletin 737-53A1200, Revision 2, dated September 12, 2012, whether or not the repair was approved previously as an AMOC for AD 2008-11-04, Amendment 39-15526 (73 FR 29421, May 21, 2008). We have not changed this final rule in this regard.

Request to Add AMOC Approval for Paragraph (g) of the NPRM (78 FR 22439, April 16, 2013)

ANA requested that we add a new paragraph (o)(5) to the NPRM (78 FR 22439, April 16, 2013) to clarify that AMOCs approved previously for the requirements of paragraph (f) of AD 2008-11-04, Amendment 39-15526 (73 FR 29421, May 21, 2008), are approved as AMOCs for paragraph (g) of the NPRM. ANA stated that if the repair meets the criteria specified in Note 10 of paragraph 3.A., “General Information,” of the Accomplishment Instructions of Boeing Service Bulletin 737-53A1200, Revision 2, dated September 12, 2012, then the inspection required by paragraph (g) of the NPRM should be terminated even if an AMOC statement in FAA Form 8100-9 (Statement of Compliance with Airworthiness Standards) is not the same as paragraph (o)(4) of the NPRM. ANA asserted that a new AMOC to the NPRM will be necessary if the AMOC statement only refers to paragraph (f) of AD 2008-11-04, Amendment 39-15526 (73 FR 29421, May 21, 2008).

We do not agree. Paragraph (p)(4) of this final rule (which was designated as paragraph (o)(4) of the NPRM (78 FR 22439, April 16, 2013)), as currently worded, addresses ANA's concern. A repair which has an AMOC for only paragraph (f) of AD 2008-11-04, Amendment 39-15526 (73 FR 29421, May 21, 2008), would be approved as an AMOC for the corresponding provisions of paragraph (g) of this final rule.

Further, we understand ANA to mean that this particular repair satisfies the conditions specified in Note 10 of paragraph 3.A., “General Information,” of the Accomplishment Instructions of Boeing Service Bulletin 737-53A1200, Revision 2, dated September 12, 2012. If this is the case, then new paragraph (n) of this final rule, discussed previously, means that this repair satisfies the requirements of paragraph (j) of this final rule, which would terminate the inspection requirements of paragraph (f) of AD 2008-11-04, Amendment 39-15526 (73 FR 29421, May 21, 2008) in the repaired area. We have not changed this final rule in this regard.

Request to Change Optional Terminating Action Paragraph (i) of the NPRM (78 FR 22439, April 16, 2013)

SWA requested that we delete Note 1 to paragraph (i) of the NPRM (78 FR 22439, April 16, 2013), which states that “Guidance on repairs can be found in Boeing 737-100/-200 SRM 53-30-1, Figure 20, 21, 31, or 32; or Boeing 737-300/-400/-500 SRM 53-10-01, Repair 5, 6, or 8; as applicable.” SWA noted that Boeing 737-300/-500 SRM 53-10-01, Repairs 5, 6, and 8 have been removed as they are no longer applicable. SWA stated that the NPRM (78 FR 22439, April 16, 2013) is in error when it states that guidance on repairs can be found in these locations.

We agree with SWA's request. Subsequent to the issuance of AD 2008-11-04, Amendment 39-15526 (73 FR 29421, May 21, 2008), Boeing removed the noted SRM repairs from the 737-300/-400/-500 SRMs. For the Boeing 737-100/200 SRM, the noted repairs were not removed, but each page was watermarked OBSOLETE. For clarity, we have deleted Note 1 to paragraph (i) of this final rule.

Boeing requested that we not retain paragraph (i) from AD 2008-11-04, Amendment 39-15526 (73 FR 29421, May 21, 2008). Boeing asserted that paragraph (i) of AD 2008-11-04 provides terminating actions for airplanes on which areas were repaired in accordance with “Boeing 737-100/-200 SRM 53-30-1, Figures 20, 21, 31, or 32; or Boeing 737-300/-400/-500 SRM 53-10-01, Repair 5, 6, or 8.” Boeing stated that allowing the repairs listed in paragraph (i) of the NPRM (78 FR 22439, April 16, 2013) as terminating action would conflict with Boeing Service Bulletin 737-53A1200, Revision 2, dated September 12, 2012, and paragraph (k) of the NPRM. Boeing added that Boeing Service Bulletin 737-53A1200, Revision 2, dated September 12, 2012, requires follow-on inspections for SRM repairs, which are required based on fleet reports showing crack susceptibility after the repair has been installed. Boeing stated that new repairs are now provided in the SRM.

We disagree with the commenter's request. Paragraph (i) of AD 2008-11-04, Amendment 39-15526 (73 FR 29421, May 21, 2008), is not retained as written in AD 2008-11-04, but rather it is retained “. . . with revised method of compliance language. . . .” Paragraph (i) states, “The inspections specified in paragraph (g) of this AD may be terminated at areas repaired using a method approved in accordance with the procedures specified in paragraph (p) [AMOC] of this AD.” Thus, operators cannot continue to install the noted obsolete/removed repairs specified previously in AD 2008-11-04. Boeing has addressed repairs installed previously by providing inspections for them in Boeing Service Bulletin 737-53A1200, Revision 2, dated September 12, 2012. These inspections are mandated by paragraph (k) of this final rule. We have not changed this final rule in this regard.

Conclusion

We reviewed the relevant data, considered the comments received, and determined that air safety and the public interest require adopting this AD with the changes described previously and minor editorial changes. We have determined that these minor changes:

• Are consistent with the intent that was proposed in the NPRM (78 FR 22439, April 16, 2013) for correcting the unsafe condition; and

• Do not add any additional burden upon the public than was already proposed in the NPRM (78 FR 22439, April 16, 2013).

We also determined that these changes will not increase the economic burden on any operator or increase the scope of this AD.

Costs of Compliance

We estimate that this AD affects 547 airplanes of U.S. registry.

We estimate the following costs to comply with this AD:

Estimated Costs
Action | Labor cost | Parts cost | Cost per product | Cost on U.S. operators
Inspections [actions retained from AD 2008-11-04, Amendment 39-15526 (73 FR 29421, May 21, 2008)] | Up to 73 work-hours × $85 per hour = $6,205 per inspection cycle | $0 | Up to $6,205 per inspection cycle | Up to $3,394,135 per inspection cycle.
Inspection [new action] | Up to 34 work-hours × $85 per hour = $2,890 per inspection cycle | 0 | Up to $2,890 per inspection cycle | Up to $1,580,830 per inspection cycle.

We have received no definitive data that would enable us to provide cost estimates for the on-condition actions specified in this AD.

Authority for this Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2008-11-04, Amendment 39-15526 (73 FR 29421, May 21, 2008), and adding the following new AD:

2014-05-21 The Boeing Company: Amendment 39-17794; Docket No. FAA-2013-0327; Directorate Identifier 2011-NM-161-AD.

(a) Effective Date

This AD is effective April 22, 2014.

(b) Affected ADs

This AD supersedes AD 2008-11-04, Amendment 39-15526 (73 FR 29421, May 21, 2008).

(c) Applicability

This AD applies to The Boeing Company Model 737-100, -200, -200C, -300, -400, and -500 series airplanes, certificated in any category, as identified in Boeing Service Bulletin 737-53A1200, Revision 2, dated September 12, 2012.

(d) Subject

Air Transport Association (ATA) of America Code 53, Fuselage.

(e) Unsafe Condition

This AD was prompted by multiple reports of cracks in the skin and/or bear strap at the forward galley service doorway hinge cutouts, and multiple reports of cracking under the repairs installed at the hinge cutouts. We are issuing this AD to detect and correct such cracking, which could result in rapid decompression of the airplane.

(f) Compliance

Comply with this AD within the compliance times specified, unless already done.

(g) Retained Repetitive Inspections

This paragraph restates the requirements of paragraph (f) of AD 2008-11-04, Amendment 39-15526 (73 FR 29421, May 21, 2008). Except as provided by paragraph (h)(1) of this AD, at the applicable times specified in paragraph 1.E. “Compliance,” of Boeing Alert Service Bulletin 737-53A1200, dated April 13, 2006, do external detailed, low frequency eddy current (LFEC), high frequency eddy current (HFEC), and HFEC rotary probe inspections, as applicable, for cracks in and around the upper and lower hinge cutouts of the forward entry and forward galley service doorways, in accordance with the Accomplishment Instructions of Boeing Alert Service Bulletin 737-53A1200, dated April 13, 2006, except as provided by paragraphs (h)(2) and (i) of this AD. Do not exceed the applicable repetitive interval for the previous inspection, as specified in Boeing Alert Service Bulletin 737-53A1200, dated April 13, 2006, as Option A or Option B. Repair any crack before further flight using a method approved in accordance with the procedures specified in paragraph (p) of this AD. Accomplishment of the actions required by paragraph (j) of this AD terminates the requirements of this paragraph.

(h) Retained Exceptions to Service Bulletin Specifications

This paragraph restates the requirements of paragraphs (g) and (h) of AD 2008-11-04, Amendment 39-15526 (73 FR 29421, May 21, 2008).

(1) Where Boeing Alert Service Bulletin 737-53A1200, dated April 13, 2006, specifies a compliance time after the release date of that service bulletin, this AD requires compliance within the specified compliance time after June 25, 2008 (the effective date of AD 2008-11-04, Amendment 39-15526 (73 FR 29421, May 21, 2008)).

(2) Although Boeing Alert Service Bulletin 737-53A1200, dated April 13, 2006, specifies contacting Boeing for information about installing an optional preventive modification that would terminate the repetitive inspections specified in paragraph (g) of this AD, this AD requires that any terminating action be done by using a method approved in accordance with the procedures specified in paragraph (p) of this AD.

(i) Retained Optional Terminating Action

This paragraph restates the optional terminating action specified paragraph (i) of AD 2008-11-04, Amendment 39-15526 (73 FR 29421, May 21, 2008), with revised method of compliance language and removal of note 1 to paragraph (i) of this AD. The inspections specified in paragraph (g) of this AD may be terminated at areas repaired using a method approved in accordance with the procedures specified in paragraph (p) of this AD.

(j) New Repetitive Inspections and Repair

Except as required by paragraph (l)(1) of this AD, at the applicable times specified in Paragraph 1.E., “Compliance,” of Boeing Service Bulletin 737-53A1200, Revision 2, dated September 12, 2012: Do an external and internal detailed inspection, HFEC inspection, and HFEC hole probe inspection, at the forward entry and galley service doorway upper and lower hinge cutouts for cracking in the skin, bonded doubler, bearstrap, and frame outer chord, in accordance with the Accomplishment Instructions of Boeing Service Bulletin 737-53A1200, Revision 2, dated September 12, 2012, except as required by paragraph (m) of this AD. Options provided in Boeing Service Bulletin 737-53A1200, Revision 2, dated September 12, 2012, for accomplishing the inspections are acceptable for compliance with the corresponding requirements of this paragraph. Repeat the applicable inspections thereafter at the applicable times specified in paragraph 1.E., “Compliance,” of Boeing Service Bulletin 737-53A1200, Revision 2, dated September 12, 2012. If any crack is found, before further flight, repair using a method approved in accordance with the procedures specified in paragraph (p) of this AD. Accomplishment of the initial inspections terminates the requirements of paragraph (g) of this AD.

(k) New Actions for Airplanes With Certain Repairs Installed

(1) For airplanes with any structural repair manual (SRM) repair specified in paragraphs (k)(1)(i) through (k)(1)(vii) of this AD installed, at the applicable times specified in paragraph 1.E., “Compliance,” of Boeing Service Bulletin 737-53A1200, Revision 2, dated September 12, 2012: Do an external and internal detailed inspection, HFEC inspection, and LFEC inspection, at the forward entry and galley service doorway upper and lower hinge cutouts for cracking in the skin, bearstrap, and frame outer chord, in accordance with the Accomplishment Instructions of Boeing Service Bulletin 737-53A1200, Revision 2, dated September 12, 2012, except as required by paragraph (l)(2) of this AD. Repeat the inspection thereafter at the applicable times specified in paragraph 1.E., “Compliance,” of Boeing Service Bulletin 737-53A1200, Revision 2, dated September 12, 2012. If any crack is found, before further flight, repair using a method approved in accordance with the procedures specified in paragraph (p) of this AD.

(i) Repair specified in Boeing 737-100/-200 SRM 53-30-03, Figure 21.

(ii) Repair specified in Boeing 737-100/200 SRM 53-30-03, Figure 31.

(iii) Repair 5 specified in Boeing 737-300 SRM 53-10-01; Repair 5 specified in Boeing 737-400 SRM 53-10-01; or Repair 5 specified in Boeing 737-500 SRM 53-10-01; installed at the upper or lower hinge cutout.

(iv) Repair specified in Boeing 737-100/200 SRM 53-30-03, Figure 20.

(v) Repair 6 specified in Boeing 737-300 SRM 53-10-01; Repair 6 specified in Boeing 737-400 SRM 53-10-01; or Repair 6 specified in Boeing 737-500 SRM 53-10-01.

(vi) Repair 8 specified in Boeing 737-300 SRM 53-10-01; Repair 8 specified in Boeing 737-400 SRM 53-10-01; or Repair 8 specified in Boeing 737-500 SRM 53-10-01.

(vii) Repair specified in Boeing 737-100/200 SRM 53-30-03, Figure 32.

(2) For airplanes with any repair installed at the forward entry doorway or forward galley doorway, upper or lower hinge cutout, that does not meet the conditions specified in Note 10 of paragraph 3.A., “General Information,” of the Accomplishment Instructions of Boeing Service Bulletin 737-53A1200, Revision 2, dated September 12, 2012: Except as required by paragraph (l) of this AD, at the applicable times specified in paragraph 1.E., “Compliance,” of Boeing Service Bulletin 737-53A1200, Revision 2, dated September 12, 2012, contact the Manager, Seattle ACO, FAA, for instructions, using the procedures specified in paragraph (p) of this AD, and do the actions required by the FAA.

(l) New Exception to Service Bulletin Specifications

(1) Where Boeing Service Bulletin 737-53A1200, Revision 2, dated September 12, 2012, specifies a compliance time after the issue date of Boeing Service Bulletin 737-53A1200, Revision 1, dated July 7, 2011, this AD requires compliance within the specified compliance time after the effective date of this AD.

(2) Where Boeing Service Bulletin 737-53A1200, Revision 2, dated September 12, 2012, specifies to contact Boeing for further instructions, this AD requires contacting the Manager, Seattle Aircraft Certification Office (ACO), FAA, for instructions and doing the actions required by the FAA, using the procedures specified in paragraph (p) of this AD.

(m) Exception for Group 5 Airplanes

For Group 5 airplanes identified in Boeing Service Bulletin 737-53A1200, Revision 2, dated September 12, 2012: Before further flight, contact the Manager, Seattle ACO, FAA, for instructions, using the procedures specified in paragraph (p) of this AD, and do the actions required by the FAA.

(n) Terminating Actions

The inspections required by paragraph (j) of this AD may be terminated at areas with repairs installed prior to the effective date of this AD, provided the repairs meet the conditions specified in Note 10 of paragraph 3.A., “General Information,” of the Accomplishment Instructions of Boeing Service Bulletin 737-53A1200, Revision 2, dated September 12, 2012.

(o) Credit for Previous Actions

This paragraph provides credit for the actions required by paragraphs (j) and (k) of this AD, if those actions were performed before the effective date of this AD using Boeing Alert Service Bulletin 737-53A1200, Revision 1, dated July 7, 2011, which is not incorporated by reference in this AD.

(p) Alternative Methods of Compliance (AMOCs)

(1) The Manager, Seattle ACO, FAA, has the authority to approve AMOCs for this AD, if requested using the procedures found in 14 CFR 39.19. In accordance with 14 CFR 39.19, send your request to your principal inspector or local Flight Standards District Office, as appropriate. If sending information directly to the manager of the ACO, send it to the attention of the person identified in paragraph (q)(1) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO to make those findings. For a repair method to be approved, the repair must meet the certification basis of the airplane and the approval must specifically refer to this AD.

(4) AMOCs approved previously for paragraphs (f) and (i) of AD 2008-11-04, Amendment 39-15526 (73 FR 29421, May 21, 2008), are approved as AMOCs for the corresponding provisions of paragraphs (g) and (i) of this AD.

(q) Related Information

(1) For more information about this AD, contact Alan Pohl, Aerospace Engineer, Airframe Branch, ANM-120S, Seattle Aircraft Certification Office (ACO), FAA, 1601 Lind Avenue SW., Renton, WA 98057-3356; phone: 425-917-6450; fax: 425-917-6590; email: Alan.Pohl@faa.gov.

(2) Service information identified in this AD that is not incorporated by reference may be obtained at the addresses specified in paragraphs (r)(5) and (r)(6) of this AD.

(r) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on April 22, 2014.

(i) Boeing Service Bulletin 737-53A1200, Revision 2, dated September 12, 2012.

(ii) Reserved.

(4) The following service information was approved for IBR on June 25, 2008 (73 FR 29421, May 21, 2008).

(i) Boeing Alert Service Bulletin 737-53A1200, dated April 13, 2006.

(ii) Reserved.

(5) For service information identified in this AD, contact Boeing Commercial Airplanes, Attention: Data & Services Management, P. O. Box 3707, MC 2H-65, Seattle, WA 98124-2207; phone: 206-544-5000, extension 1; fax: 206-766-5680; Internet: https://www.myboeingfleet.com.

(6) You may view this service information at the FAA, Transport Airplane Directorate, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on February 19, 2014.
Jeffrey E. Duven,
Manager, Transport Airplane Directorate, Aircraft Certification Service.

[FR Doc. 2014-04838 Filed 3-17-14; 8:45 am]

BILLING CODE 4910-13-P